NATIONAL AERONAUTICS AND SPACE ADMINISTRATION

[Notice: (15-084)]

National Space-Based Positioning, Navigation, and Timing (PNT) Advisory Board; Meeting

AGENCY: National Aeronautics and Space Administration (NASA).

ACTION: Notice of Meeting.

SUMMARY: In accordance with the Federal Advisory Committee Act, Public Law 92-463, as amended, and the President's 2004 U.S. Space-Based Positioning, Navigation, and Timing (PNT) Policy, the National Aeronautics and Space Administration (NASA) announces a meeting of the National Space-Based Positioning, Navigation, and Timing (PNT) Advisory Board.

DATES: Friday, October 30, 2015, 9:00 a.m. to 5:00 p.m.; and Saturday, October 31, 2015, 9:00 a.m. to 5:00 p.m., Local Time.

ADDRESSES: University Corporation for Atmospheric Research—Center Green campus, 3090 Center Green Drive, Boulder, CO 80309.

FOR FURTHER INFORMATION CONTACT: Mr. James J. Miller, Human Exploration and Operations Mission Directorate, NASA Headquarters, Washington, DC 20546, (202) 358-4417, fax (202) 358-4297, or jj.miller@nasa.gov.

SUPPLEMENTARY INFORMATION: The meeting will be open to the public up to the seating capacity of the room. This meeting is being scheduled in coordination with the International Committee on Global Navigation Satellite Systems (ICG) being held at the same venue the following week. Visitors will be requested to sign an attendance roster.

The agenda for the meeting includes the following topics:

• Examine emerging trends and requirements for PNT services in U.S. and international arenas through PNT Board policy and technical evaluations.

• Update on PNT Policy and Global Positioning System (GPS) modernization.

• Prioritize current and planned GPS capabilities and services while assessing future PNT architecture alternatives with a focus on affordability.

• Examine methods in which to Protect, Toughen, and Augment (PTA) access to GPS/Global Navigation Satellite Systems (GNSS) services in key domains for multiple user sectors.

• Assess economic impacts of GPS on the United States and in select international regions, with a consideration towards effects of potential PNT service disruptions if radio spectrum interference is introduced.

• Explore opportunities for enhancing the interoperability of GPS with other emerging international GNSS.

• Review the potential benefits, perceived vulnerabilities, and any proposed regulatory constraints to accessing foreign Radio Navigation Satellite Service (RNSS) signals in the United States and subsequent impacts on multi-GNSS receiver markets.

It is imperative that the meeting be held on these dates to accommodate the scheduling priorities of the key participants.

Patricia D. Rausch,
Advisory Committee Management Officer, National Aeronautics and Space Administration.

[FR Doc. 2015-24943 Filed 9-30-15; 8:45 am]

BILLING CODE 7510-13-P